DEPARTMENT OF HEALTH AND HUMAN SERVICES

National Institutes of Health

National Institute of Mental Health; Notice of Meeting

Pursuant to section 10(a) of the Federal Advisory Committee Act, as amended (5 U.S.C. App.), notice is hereby given of a conference call meeting of the Interagency Autism Coordinating Committee (IACC).

The purpose of the IACC conference call meeting is to discuss and vote on the final IACC Strategic Plan for Autism Spectrum Disorder Research 2012 Update. These updates will describe recent progress that has been made in the autism field as well as any new gap areas in research that have emerged since the previously released 2011 Strategic Plan. The committee will be meeting via conference call, but oral public comments may be made in person at the location specified below and will be webcast live so that the committee members and members of the public can view the session. The other portions of the meeting will be conducted via conference call only.

Name of Committee: Interagency Autism Coordinating Committee (IACC).

Type of meeting: Open Meeting.

Date: December 18, 2012.

Time: 10:00 a.m. to 5:00 p.m. Eastern Time.

Agenda: The IACC will review and approve the final 2012 update of the IACC Strategic Plan for Autism Spectrum Disorder Research.

Place: The National Institute of Mental Health, The Neuroscience Center, 6001 Executive Boulevard, Conference Rooms B1/B2, Rockville, MD 20852.

Conference Call: Dial: 800-369-1881. Access code: 9976437.

Cost: The meeting is free and open to the public via a conference call. The oral public comment session is also free and will take place in person at the location listed above and will be webcast live.

Webcast Live: http://videocast.nih.gov/.

Deadlines: Notification of intent to present oral comments: Monday, December 10th by 5:00 p.m. ET. Submission of written/electronic statement for oral comments: Tuesday, December 11th by 5:00 p.m. ET. Submission of written comments: Friday, December 14th by 5:00 p.m. ET.

Access: White Flint Metro (Red Line).

Contact Person: Ms. Lina Perez, Office of Autism Research Coordination, National Institute of Mental Health, NIH, 6001 Executive Boulevard, NSC, Room 6182A, Rockville, MD 20852, Phone: 301-443-6040, Email: IACCPublicInquiries@mail.nih.gov.

Please Note

Any member of the public interested in presenting oral comments to the Committee must notify the Contact Person listed on this notice by 5:00 p.m. ET on Monday, December 10, 2012 with their request to present oral comments at the meeting. Interested individuals and representatives of organizations must submit a written/electronic copy of the oral statement/comments including a brief description of the organization represented by 5:00 p.m. ET on Tuesday, December 11, 2012. Statements submitted will become a part of the public record. Only one representative of an organization will be allowed to present oral comments, and presentations will be limited to three to five minutes per speaker, depending on the number of speakers to be accommodated within the allotted time. Speakers will be assigned a time to speak in the order of the date and time when their request to speak is received, along with the required submission of the written/electronic statement by the specified deadline.

In addition, any interested person may submit written comments to the IACC prior to the meeting by sending the comments to the Contact Person listed on this notice by 5:00 p.m. ET, Friday, December 14, 2012. The comments should include the name and, when applicable, the business or professional affiliation of the interested person. All written comments received by the deadlines for both oral and written public comments will be provided to the IACC for their consideration and will become part of the public record.

The conference call and in-person oral public comment session will be open to the public. Members of the public who participate using the conference call phone number will be able to listen to the meeting but will not be heard. If you experience any technical problems with the conference call, please email iacchelpdesk2012@gmail.com.

If you experience any technical problems with the web presentation tool, please contact GoToWebinar at (800) 263-6317. To access the web presentation tool on the Internet the following computer capabilities are required:

For PC-based participants:

• Internet Explorer 7.0 or newer, Mozilla Firefox 4.0 or newer or Google Chrome 5.0 or newer (JavaScript and Java enabled)

• Windows 7, Vista, XP or 2003 Server

• Cable modem, DSL, or better Internet connection

• Dual-core 2.4GHz CPU or faster with 2GB of RAM (recommended)

For Mac-based participants:

• Safari 3.0 or newer, Firefox 4.0 or newer or Google Chrome 5.0 or newer (JavaScript and Java enabled)

• Mac OS X 10.5—Leopard or newer

• Intel processor (1GB of RAM or better recommended)

• Cable modem, DSL, or better Internet connection

Individuals who participate by using these electronic services and who need special assistance, such as captioning of the conference call or other reasonable accommodations, should submit a request to the Contact Person listed on this notice at least 5 days prior to the meeting.

As a part of security procedures, those attending or presenting at the oral comment session should be prepared to show a photo ID and to state the purpose of their visit at the front desk and at the meeting registration desk when checking-in. Seating will be limited to the room capacity and seats will be on a first come, first served basis.

Schedule is subject to change.

Information about the IACC and a registration link for this meeting are available on the Web site: http://www.iacc.hhs.gov.

Dated: November 23, 2012.
Carolyn A. Baum,
Program Analyst, Office of Federal Advisory Committee Policy.

[FR Doc. 2012-28970 Filed 11-29-12; 8:45 am]

BILLING CODE 4140-01-P